DEPARTMENT OF TRANSPORTATION

National Highway Traffic Safety Administration

49 CFR Part 571

[Docket No. NHTSA 2003-14165; Notice 2]

Federal Motor Vehicle Safety Standards

AGENCY: National Highway Traffic Safety Administration (NHTSA), DOT.

ACTION: Response to petitions for reconsideration.

SUMMARY: On January 6, 2003, the agency published a final rule amending Federal Motor Vehicle Safety Standard (FMVSS) No. 208, “Occupant crash protection.” That final rule responded, in part, to petitions for reconsideration of the December 18, 2001, final rule. The Association of International Automobile Manufacturers (AIAM), the Alliance of Automobile Manufacturers (Alliance), and the American Honda Motor Co., Inc. (Honda) submitted petitions for reconsideration of the January 6, 2003, final rule.

The petitioners request that the time duration for low risk deployment (LRD) testing for the 5th percentile female and rear facing infant dummies be reduced to 100 milliseconds (ms). Petitioners also requested the option of testing at either the previous or current target points for one of the 5th percentile female LRD tests. Finally, the petitioners requested that the removable label located on the dashboard or steering wheel hub have a bullet added to make it consistent with the new visor label.

NHTSA published a technical amendment on August 20, 2003 (68 FR 50077), addressing the label issue. This document denies the remaining petitions for reconsideration of the January 6, 2003, final rule.

FOR FURTHER INFORMATION CONTACT: For non-legal issues: Louis Molino, Office of Crashworthiness Standards, NVS-112, National Highway Traffic Safety Administration, 400 Seventh Street, SW., Washington, DC 20590. Telephone (202) 366-2264. Fax: (202) 493-2290. For legal issues, Christopher Calamita or Rebecca MacPherson, Office of Chief Counsel, at (202) 366-2992. Fax: (202) 366-3820.

SUPPLEMENTARY INFORMATION:

Table of Contents

I. Background

II. The Petitions

A. Time Duration for Low Risk Deployment (LRD) Testing

1. Discussion and Analysis

B. Target Position for 5th Percentile Female Dummy LRD Test

1. Discussion and Analysis

III. Conclusions

I. Background

On December 18, 2001, NHTSA issued a final rule, Response to Petitions for Reconsideration of Federal Motor Vehicle Safety Standard (FMVSS) No. 208, “Occupant Crash Protection” (66 FR 65376). The December 18, 2001, final rule was in response to petitions for reconsideration of the May 12, 2000, final rule (65 FR 30680), which, among other things, added advanced air bag requirements to FMVSS No. 208. By February 6, 2002, NHTSA received 10 petitions for reconsideration of the December 18, 2001, rule. On January 6, 2003, the agency published a Final Rule (68 FR 504), which responded, in part, to these petitions for reconsideration of the December 18, 2001, final rule. The January 6, 2003, final rule specifically addressed several issues. These were the length of time data are collected during low risk deployment (LRD) tests for the three-year-old (3YO) and six-year-old (6YO) dummy positions, a change in dummy positioning procedure for one of the driver position LRD tests, and issues related to the air bag warning labels and the telltale that indicates when the passenger air bag has been automatically suppressed.

II. The Petitions

The Association of International Automobile Manufacturers (AIAM), the Alliance of Automobile Manufacturers (Alliance), and Honda submitted petitions for reconsideration of the January 6, 2003, final rule. The petitions addressed the following issues.

A. Time Duration for Low Risk Deployment (LRD) Testing

In the January 6, 2003, final rule (68 FR 504) the agency modified the LRD test procedure using the 3YO and 6YO dummies such that the data acquisition would be limited to 100 ms after initiation of the first stage of air bag deployment. Previously, the data acquisition period was 125 ms after initiation of the final stage of air bag deployment. We stated our rational for modifying the data acquisition period for the 3YO and 6YO tests as follows:

We agree with manufacturers that high injury measurements due to secondary impacts can be an artifact of the low risk deployment test. The 100 ms time frame adopted today will minimize the likelihood that a vehicle occupant will be thrown into the seat back or other vehicle component prior to 100 ms, as vehicle manufacturers will need to ensure that their air bags are sufficiently benign to avoid such contacts during that time frame.

The Alliance and Honda subsequently requested that the agency reconsider its decision not to reduce the time duration for the 5th percentile female driver LRD test to 100 ms. Both the Alliance and Honda provided test data from a single LRD test using a 5th percentile female dummy. The Alliance further requested that the same duration be set for the rear-facing infant LRD test.

In its petition, the Alliance characterized the data previously provided for the 3YO and 6YO LRD tests as follows:

[T]he 3 and 6-year-old tests demonstrated that secondary impacts from static deployments were significantly more severe than those encountered in real world crashes due to the momentum of the occupant in such crashes. Since the fifth female has a greater mass than the 6-year-old, the influence of dummy momentum in reducing secondary impact severity in real world crashes is expected to be even greater.

For the rear-facing infant test, the Alliance argued that the agency's previous justification, that the infant in a rear-facing child restraint system will not have significant momentum, is not correct. It contended:

Based on the laws of physics, the Alliance agrees with NHTSA that the seat belt will reduce the momentum of the child and child restraint in the brief time interval between the crash initiation and the time when the air bag significantly interacts with the child restraint. However, since seat belts can only provide tensile forces (not compression), once the rear facing child seat interacts with the air bag and begins to move/pivot toward the vehicle seat back the belts become slack and no longer react [to] the remaining momentum of the child seat/dummy. Since this occurs very early in the crash, there is still a significant “momentum effect” that reduces the seat back interaction in real world crashes compared to that measured in static deployment tests.

1. Discussion and Analysis

In the agency's original analysis that led to the reduction in the data acquisition period for the 3YO and 6YO dummy tests, we also considered reducing the duration for the LRD tests using the rear-facing infant and 5th percentile female driver dummies (68 FR 508). We decided against doing so for the following reasons:

Vehicle manufacturers have not demonstrated that secondary impacts are a compliance problem on the driver side of the vehicle or with a rear-facing child restraint on the passenger side. Additionally, unlike the 3-year-old and 6-year-old dynamic tests relied on by the Alliance to support its position that secondary impacts are a test anomaly, there will not be a significant amount of forward momentum relative to the vehicle in a dynamic test with an infant dummy in a rear-facing child restraint. The infant dummy is restrained in a rear-facing child restraint that is coupled to the vehicle chassis via the vehicle seat belt system. Thus, the static test condition is more representative of the real world crash event. Accordingly, we are retaining the specification that data be collected for compliance purposes in S19.3 (12-month-old) and S25.3 (driver-side) for 125 ms after initiation of the final stage of deployment for crashes up to 64 km/h (40 mph) and 26 km/h (16 mph), respectively.

With respect to an infant in a rear-facing child restraint, the agency disagrees with the petitioner's arguments that “significant” momentum remains once the rear-facing child seat begins to interact with the air bag. We still believe, as previously argued, that the belted infant seat limits the momentum effects. In addition, the proximity of the infant seat to the instrument panel does not allow generation of significant velocity relative to the vehicle. Therefore, the static LRD test with the infant is a sufficiently representative approximation of the real world crash event so there is no need for the test to be truncated at 100 ms. Therefore this aspect of the petition is denied.

The petition pertaining to the 5th percentile female LRD test is denied for the following reasons. In the real world, small stature drivers are generally in close proximity to the air bag prior to pre-impact braking due to their need to reach the gas pedal or see over the instrument panel. Thus, in a crash they have little travel space to generate significant velocity relative to the vehicle. Therefore, the static LRD test with the 5th percentile female dummy is a sufficiently representative approximation of the real world crash event for small stature occupants, so again, there is no need for the test to be truncated at 100 ms.

Also, once a driver is out-of-position and is up against the undeployed air bag, that driver rides down the impact with the vehicle until the air bag deploys, and thus generates no velocity relative to the occupant compartment. Unlike a child that does not have his/her feet planted on the floorboard or has its knees braced against the knee bolsters and thus may move forward under the instrument panel, the driver is likely to remain in contact with the steering wheel until the air bag deploys. Therefore, once again, the static LRD test with the 5th percentile female dummy is a sufficiently representative approximation of the real world crash event for small stature occupants, and the test should not be truncated at 100 ms.

Finally, more than 40 advanced air bag compliant vehicle models were available before the end of 2003, with more than 20 available on October 1, 2003. In order to sell these vehicles, the manufacturers had to certify compliance with the driver LRD performance requirements. This indicates that compliance to the 5th percentile female dummy LRD performance requirements does not appear to be a problem, and relief is not necessary.

B. Target Position for 5th Percentile Female Dummy LRD Test

In the January 6, 2003, final rule (68 FR 508), the agency modified S26.2.6, as requested by the manufacturers, to position the dummy chin at the top of the module. This was a reversion back to the May 12, 2000, final rule from the December 18, 2001, final rule, which had placed the target at the air bag opening. We provided the following explanation:

Petitioners are correct that the change was not discussed. It was intended to create consistency between this test and other tests in which a portion of the dummy was to be positioned in alignment with the place in the vehicle where the air bag initially deploys. It was not intended to have a substantive effect. We do not know at this time whether lowering the dummy head a couple of inches will have a significant effect on recorded injury measurements. However, we recognize it could. Since no substantive change was intended, we have reverted back to the positioning language that was in the May 2000 final rule.

The Alliance and AIAM petitioned the agency to allow either test position until September 1, 2004. The Alliance stated:

[D]ue to the fact that many manufacturers either already or will shortly have vehicles for sale that are certified to the previous version of this position, the 30-day effective date does not provide sufficient lead-time for manufacturers to retest and certify these vehicles to the new requirement. As such, the compliance of these vehicles with the advanced air bag requirements may be in jeopardy.

1. Discussion and Analysis

The agency is denying the petition to allow manufacturers to certify compliance at either of the two chin-on-module positions until September 1, 2004. Compliance and certification test results show very little difference between the results using the two test positions, which indicates that there is no need for the requested change.

III. Conclusions

For the LRD test using the rear-facing infant dummy, NHTSA continues to believe that the belted infant seat limits the momentum effects and that the proximity of the infant seat to the instrument panel does not allow generation of significant velocity relative to the vehicle. Therefore, the agency is denying the petition to truncate the LRD test for the rear facing infant dummy at 100 ms after initiation of air bag deployment.

With respect to the LRD test using the 5th percentile female dummy, small stature drivers have little travel space to generate significant velocity relative to the vehicle, and once a driver is out-of-position and is up against the undeployed air bag, the driver rides down the impact with the vehicle until the air bag deploys, thus generating no velocity relative to occupant compartment. Additionally, more than 40 advanced air bag compliant vehicle models were available before the end of 2003, with more than 20 available on October 1, 2003. This indicates that assuring compliance with the 5th percentile female dummy LRD test requirements is not a problem, and relief is unnecessary. Therefore, we are denying the petition to truncate the 5th percentile female dummy LRD test at 100 ms.

Finally, the agency is denying the petition to allow manufacturers to test at either chin-on-module test position until September 1, 2004. Compliance and certification test results show very little difference between either test position and, therefore, relief is unnecessary.

Authority: 49 U.S.C. 30162; delegations of authority at 49 CFR 1.50 and 49 CFR 501.8.

Issued on: February 24, 2004.
Stephen R. Kratzke,
Associate Administrator for Rulemaking.

[FR Doc. 04-4400 Filed 2-26-04; 8:45 am]

BILLING CODE 4910-59-P